ELECTION ASSISTANCE COMMISSION

Sunshine Act Meetings

AGENCY: U.S. Election Assistance Commission.

ACTION: Sunshine Act notice; notice of public roundtable agenda.

SUMMARY: Roundtable Discussion: Accessibility Lessons Learned From the 2020 Elections.

DATES: Wednesday, February 17, 2021, 1:00 p.m.-2:30 p.m. Eastern.

ADDRESSES: Virtual via Zoom.

The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual roundtable discussion on the lessons learned regarding accessibility for voters with disabilities from the 2020 elections.

Agenda: The U.S. Election Assistance Commission (EAC) will hold a roundtable discussion on accessibility for voters with disabilities from the 2020 elections. The first portion of the meeting will include a presentation of findings from the “2020 Disability and Voting Accessibility Survey” conducted by Rutgers University on behalf of the EAC. The second portion of the roundtable will include subject matter experts and election officials who will discuss the challenges and successes they saw during the 2020 elections with regard to serving voters with disabilities.

The full agenda will be posted in advance on the EAC website: https://www.eac.gov.

Status: This roundtable discussion will be open to the public.

Amanda Joiner,
Associate Counsel, U.S. Election Assistance Commission.

[FR Doc. 2021-02197 Filed 1-29-21; 11:15 am]

BILLING CODE 6820-KF-P